DEPARTMENT OF ENERGY

Federal Energy Regulatory Commission

[Docket No. MT01-1-000]

Transwestern Pipeline Company; Notice of Proposed Changes in FERC Gas Tariff

October 17, 2000

Take notice that on October 11, 2000, Transwestern Pipeline Company (Transwestern) tendered for filing to become part of Transwestern's FERC Gas Tariff, Second Revised Volume No. 1, the following tariff sheet to be effective October 11, 2000:

Fifteenth Revised Sheet No. 73

Transwestern states that the purpose of this filing is to remove Section 19.1 of Transwestern's General Terms and Conditions of its Tariff in accordance with Order No. 637 which required that shared personnel and shared facilities be posted on a pipeline's internet website.

Transwestern states that copies of the filing were served upon Transwestern's customers and interested State Commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.us/online/rims.htm (call 202-208-2222 for assistance).

David P. Boergers,
Secretary.

[FR Doc. 00-27088 Filed 10-20-00; 8:45 am]

BILLING CODE 6717-01-M